DEPARTMENT OF HEALTH AND HUMAN SERVICES

Administration for Children and Families

Submission for OMB Review; Center for States Evaluation Ancillary Data Collection (0970-0501)

AGENCY: Children's Bureau, Administration on Children, Youth and Families, Administration for Children and Families, HHS.

ACTION: Request for public comment.

SUMMARY: The Administration for Children and Families (ACF) is requesting a 3-year extension of the collection of information under the Center for States Evaluation Ancillary Data Collection (OMB #0970-0501, expiration date 08/31/2020) without changes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Evaluation of the Child Welfare Capacity Building Collaborative, Center for States is sponsored by the Children's Bureau (CB), ACF. The purpose of this evaluation is to respond to a set of cross-cutting evaluation questions posed by CB. This existing information collection is an ancillary part of a larger data collection effort being conducted for the evaluation of the Child Welfare Capacity Building Collaborative (0970-0484 and 0970-0494). This notice details a group of instruments that are specific only to the Center for States. The instruments focus on (1) evaluating an innovative approach to engaging professionals in networking and professional development through virtual conferences, (2) understanding fidelity to and effectiveness of the Center for States' Capacity Building Model, and (3) capturing consistent information during the updated annual assessment process focused on related contextual issues impacting potential service delivery such as implementation of new legislation.

Respondents: Child welfare agency staff and stakeholders who directly receive services.

ANNUAL BURDEN ESTIMATES
Instrument | Total number of respondents | Total number of responses per respondent | Average burden hours per response | Total burden hours | Annual burden hours
Child Welfare Virtual Conference:
Child Welfare Virtual Conference Session Surveys | 450 | 6 | .08 | 216 | 72
Child Welfare Virtual Conference Focus Group Guide | 30 | 1 | 1 | 30 | 10
Child Welfare Virtual Conference Interview Guide | 20 | 1 | .5 | 10 | 3
Child Welfare Virtual Conference Registration Form | 1,000 | 1 | .03 | 30 | 10
Child Welfare Virtual Conference Exit Survey | 225 | 1 | .16 | 36 | 12
Tailored Services Capacity Building Approach:
Tailored Services Practice Model Survey | 130 | 1 | .12 | 15.6 | 5
Assessment Observation—Group Debrief | 50 | 1 | .25 | 12.5 | 4
Service Delivery and Tracking and Adjustment Observation—Group Debrief | 80 | 1 | .25 | 20 | 7
Assessment and Service Delivery State Lead Interviews—Supplemental Questions | 30 | 1 | .5 | 15 | 5
Assessment questions:
Annual Assessment Update (8 systematic questions) | 54 | 1 | .08 | 4.32 | 1
Total |  |  |  |  | 130

Authority: Section 203 of Section II: Adoption Opportunities of the Child Abuse Prevention and Treatment Act (CAPTA) (42 U.S.C. 5113).

John M. Sweet,
ACF/OPRE Certifying Officer.

[FR Doc. 2020-17590 Filed 8-11-20; 8:45 am]

BILLING CODE 4184-01-P